DEPARTMENT OF THE INTERIOR

Fish and Wildlife Service

[FWS-R8-ES-2008-N0237; 80221-1113-0000-F5]

Endangered Species Recovery Permit Applications

AGENCY: Fish and Wildlife Service, Interior.

ACTION: Notice of receipt of permit applications; request for comment.

SUMMARY: We invite the public to comment on the following applications to conduct certain activities with endangered species.

DATES: Comments on these permit applications must be received on or before October 15, 2008.

ADDRESSES: Written data or comments should be submitted to the U.S. Fish and Wildlife Service, Endangered Species Program Manager, Region 8, 2800 Cottage Way, Room W-2606, Sacramento, CA 95825 (telephone: 916-414-6464; fax: 916-414-6486). Please refer to the respective permit number for each application when submitting comments. All comments received, including names and addresses, will become part of the official administrative record and may be made available to the public.

FOR FURTHER INFORMATION CONTACT: Daniel Marquez, Fish and Wildlife Biologist, see ADDRESSES, (telephone: 760-431-9440; fax: 760-431-9624).

SUPPLEMENTARY INFORMATION: The following applicants have applied for scientific research permits to conduct certain activities with endangered species pursuant to section 10(a)(1)(A) of the Endangered Species Act (16 U.S.C. 1531 et seq.). The U.S. Fish and Wildlife Service (“we”) solicits review and comment from local, State, and Federal agencies, and the public on the following permit requests. Before including your address, phone number, e-mail address, or other personal identifying information in your comment, you should be aware that your entire comment—including your personal identifying information—may be made publicly available at any time. While you can ask us in your comment to withhold your personal identifying information from public review, we cannot guarantee that we will be able to do so.

Permit No. TE-190302

Applicant: Mitch C. Siemens, Santa Maria, California

The applicant requests a permit to take (survey, capture, handle, and release) the California tiger salamander (Ambystoma californiense) in conjunction with surveys within Santa Barbara County, California for the purpose of enhancing its survival.

Permit No. TE-814222

Applicant: California Department of Parks and Recreation, San Diego, California

The applicant requests an amendment to take (harass by survey, locate/monitor nests, and band chicks and fledglings) the California least tern (Sterna Antillarum browni) in conjunction with surveys and population monitoring studies within California State Park lands in San Diego, Imperial, Orange, Riverside, southwestern San Bernardino Counties, and in areas in Los Angeles County south of the Angeles National Forest, California, for the purpose of enhancing its survival.

Permit No. TE-190300

Applicant: Debra G. De La Torre, Lytle Creek, California

The permittee requests a permit to take (survey, trap, handle, and release) the Stephen's kangaroo rat (Dipodomys stephensi) in conjunction with surveys and population monitoring activities throughout the range of the species in California for the purpose of enhancing their survival.

Permit No. TE-190303

Applicant: Daniel Shaw, Sacramento, California

The applicant requests a permit to take (survey, capture, handle, and release) the California tiger salamander (Ambystoma californiense) in conjunction with surveys within California State Park lands in Santa Barbara and Sonoma Counties, California for the purpose of enhancing its survival.

Permit No. TE-095858

Applicant: Arianne B. Preite, Anaheim, California

The applicant requests an amendment to take (harass by survey, and locate/monitor nests) the southwestern willow flycatcher (Empidonax traillii extimus) in conjunction with surveys and monitoring activities in Orange, Los Angeles, San Diego, Riverside, and San Bernardino Counties in California for the purpose of enhancing its survival.

Permit No. TE-191704

Applicant: Dana E. Terry, Walnut Creek, California

The applicant requests a permit to take (survey, capture, handle, and release) the California tiger salamander (Ambystoma californiense), and take (capture, collect, and kill) the Conservancy fairy shrimp (Branchinecta conservatio), the longhorn fairy shrimp (Branchinecta longiantenna), the Riverside fairy shrimp (Streptocephalus wootoni), the San Diego fairy shrimp (Branchinecta sandiegonensis), and the vernal pool tadpole shrimp (Lepidurus packardi) in conjunction with surveys throughout the range of each species in California for the purpose of enhancing their survival.

Permit No. TE-170389

Applicant: Travis B. Cooper, San Juan Capistrano, California

The applicant requests an amendment to take (survey by pursuit) the Quino checkerspot butterfly (Euphydryas editha quino) in conjunction with surveys throughout the range of the species in California for the purpose of enhancing its survival.

Permit No. TE-192714

Applicant: Southern California Coastal Water Research Group, Costa Mesa, California

The applicant requests a permit to take (capture and release) the tidewater goby (Eucyclogobius newberryi) and take (harass) the light-footed clapper rail (Rallus longirostris levipes), and California least tern (Sterna antillarum browni) in conjunction with coastal wetland research in Santa Barbara, Ventura, Los Angeles, Orange, and San Diego Counties, California for the purpose of enhancing their survival.

Permit No. TE-192708

Applicant: Sarah M. Farmer, San Diego, California

The applicant requests a permit to take (survey by pursuit) the Quino checkerspot butterfly (Euphydryas editha quino) in conjunction with surveys throughout the range of the species in California for the purpose of enhancing its survival.

Permit No. TE-192702

Applicant: Jamie M. Kneitel, Sacramento, California

The applicant requests a permit to take (capture, collect, and kill) the Conservancy fairy shrimp (Branchinecta conservatio), the longhorn fairy shrimp (Branchinecta longiantenna), and the vernal pool tadpole shrimp (Lepidurus packardi) in conjunction with surveys throughout the range of each species in California for the purpose of enhancing their survival.

We solicit public review and comment on each of these recovery permit applications. Comments and materials we receive will be available for public inspection, by appointment, during normal business hours at the address listed in the ADDRESSES section of this notice.

Dated: September 9, 2008.
Mary Grim,
Acting Regional Director, Region 8, Sacramento, California.

[FR Doc. E8-21411 Filed 9-12-08; 8:45 am]

BILLING CODE 4310-55-P